DEPARTMENT OF TRANSPORTATION

Surface Transportation Board

[STB Finance Docket No. 34109]

Oakdale Traction Corporation—Acquisition and Operation Exemption—Union Pacific Railroad Company

Oakdale Traction Corporation (OTC), a noncarrier, has filed a verified notice of exemption under 49 CFR 1150.31 to acquire from Union Pacific Railroad Company (UP) and operate a 1.12-mile line of railroad that extends between milepost 123.35 and milepost 124.47, at Oakdale, Stanislaus County, CA (Oakdale line).¹

¹ According to the verified notice of exemption, John Brichetto and Jacqueline Brichetto (Mr. and Mrs. Brichetto) acquired the Oakdale line for rail use from UP by a quitclaim deed on June 27, 2001. OTC states that Mr. and Mrs. Brichetto evidently were unaware of the requirement that they needed Board approval under 49 U.S.C. 10901, or an exemption therefrom under 49 CFR 1150.31, to acquire the Oakdale line. OTC maintains that, upon learning of that requirement, Mr. and Mrs. Brichetto incorporated OTC and conveyed the Oakdale line to it. OTC notes that the Oakdale line is the remaining segment of a 53-mile line of railroad formerly owned by UP's predecessor, the Southern Pacific Transportation Company, that extended between Stockton, CA, and Montpelier, CA (Stockton-Montpelier line). OTC states that its assessment of railroad map information indicates that, except for the Oakdale line, the Stockton-Montpelier line was abandoned sometime between 1975 and 1982.

While Mr. and Mrs. Brichetto, now OTC, may have acquired the Oakdale line on June 27, 2001, the exemption that provides the regulatory approval for this transaction did not become effective until October 23, 2001, 7 days after the filing of the verified notice of exemption by OTC. OTC states that it will commence operating the Oakdale line upon receiving its first request for rail service but not sooner than October 23, 2001.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34109 must be filed with the Surface Transportation Board, Office of the Secretary, Case Control Unit, 1925 K Street, NW., Washington, DC 20423-0001. In addition, a copy of each pleading must be served on Thomas F. McFarland, Esq., 208 South LaSalle Street, Suite 1890, Chicago, IL 60604-1194.

Board decisions and notices are available on our website at www.stb.dot.gov.

Decided: October 29, 2001.
By the Board, David M. Konschnik, Director, Office of Proceedings.
Vernon A. Williams,
Secretary.

[FR Doc. 01-27733 Filed 11-2-01; 8:45 am]

BILLING CODE 4915-00-P